DEPARTMENT OF HEALTH AND HUMAN SERVICES

National Institutes of Health

National Institute of Mental Health; Amended Notice of Meeting

Notice is hereby given of a change in the meeting of the National Institute of Mental Health Special Emphasis Panel, March 24, 2020, 12:00 p.m. to March 24, 2020, 05:00 p.m., National Institutes of Health, 6001 Executive Boulevard, Rockville, MD 20852 which was published in the Federal Register on March 13, 2020, 85 FR 14690.

This meeting is being amended to change the date from March 24, 2020 to March 31, 2020. The meeting is closed to the public.

Dated: March 25, 2020.
Melanie J. Pantoja,
Program Analyst, Office of Federal Advisory Committee Policy.

[FR Doc. 2020-06692 Filed 3-30-20; 8:45 am]

BILLING CODE 4140-01-P